DEPARTMENT OF VETERANS AFFAIRS

Means Test Thresholds

AGENCY: Department of Veterans Affairs.

ACTION: Notice.

SUMMARY: As required by law, the Department of Veterans Affairs (VA) is hereby giving notice of cost-of-living adjustments (COLA) for means test income limitations. These adjustments are based on the rise in the Consumer Price Index (CPI) during the one-year period ending September 30, 2000.

DATES: These rates are effective January 1, 2001.

FOR FURTHER INFORMATION CONTACT: Roscoe Butler, Chief Policy and Operations, Health Administration Service, (10C3), Veterans Health Administration, VA, 810 Vermont Avenue, NW., Washington, DC 20420, (202) 273-8302. (This is not a toll-free number.)

SUPPLEMENTARY INFORMATION: Title 38 United States Code 1722(c), requires that on January 1 of each year, the Secretary increase the means test threshold amounts by the same percentage the maximum rates of pension benefits were increased under 38 U.S.C. 5312(a) during the preceding calendar year. Under the provisions of 38 U.S.C 5312 and section 306 of Public Law 95-588, VA is required to increase the benefit rates and income limitations in the pension and parents' indemnity compensation (DIC) program by the same percentage, and effective the same date, as increases in the benefit amount payable under Title II of the Social Security Act.

On October 24, 2000, for the period beginning December 1, 2000, the Social Security Administration announced at 65 FR 63663 of the Federal Register, a 3.5 percent cost-of-living increase in Social Security Benefits under Title II of the Social Security Act. The Veteran Benefits Administration has indicated Pension benefits will be increased by a 3.5 percent cost-of-living increase effective December 1, 2000. Therefore, applying the same percentage and rounding up in accordance with 38 CFR 3.29, the following income limitations for the Means Test Thresholds will be effective January 1, 2001.

Table 1.—Means Test Thresholds
(1) Veterans with no dependents:
(a) Means Test Co-payment Exempted Category | $23,688
(b) Means Test Co-payment Required Category | 23,689
(2) Veterans with 1 dependent:
(a) Means Test Co-payment Exempt Category | 28,429
(b) Means Test Co-payment Required Category | 28,430
(3) Veterans with 2 dependents:
(a) Means Test Co-payment Exempt Category . | 30,015
(b) Means Test Co-payment Required Category | 30,016
(4) Veterans with 3 dependents:
(a) Means Test Co-payment Exempt Category | 31,601
(b) Means Test Co-payment Required Category | 31,602
(5) Veterans with 4 dependents:
(a) Means Test Co-payment Exempt Category | 33,187
(b) Means Test Co-payment Required Category | 33,188
(6) Veterans with 5 dependents:
(a) Means Test Co-payment Exempt Category | 34,773
(b) Means Test Co-payment Required Category | 34,774
(7) Child Income Exclusion is: | 7,450
(8) The Medicare deductible is: | 792
(9) Maximum annual Rate of Pension effective December 1, 2000 are:
(a) The base rate is | 9,304
(b) The base rate with one dependent is | 12,186
(c) Add 1,586 each additional dependent

Approved: January 5, 2001.
Hershel W. Gober,
Acting Secretary of Veterans Affairs.

[FR Doc. 01-1180 Filed 1-12-01; 8:45 am]

BILLING CODE 8320-01-P